DEPARTMENT OF ENERGY

Federal Energy Regulatory Commission

Combined Notice of Filings

Take notice that the Commission has received the following Natural Gas Pipeline Rate and Refund Report filings:

Filings Instituting Proceedings

Docket Numbers: PR14-54-000.

Applicants: Kinder Morgan Border Pipeline LLC.

Description: Tariff filing per 284.123(e)/.224: Cancellation of Statement of Operating Conditions to be effective 9/18/2014; TOFC: 800.

Filed Date: 9/18/14.

Accession Number: 201400918-5045.

Comments Due: 5 p.m. ET 10/9/14.

284.123(g) Protests Due:

Docket Numbers: RP14-1215-000.

Applicants: Paiute Pipeline Company.

Description: Tariff Withdrawal per 154.205(a): Cancel Docket RP14-1215.

Filed Date: 9/18/14.

Accession Number: 20140918-5093.

Comments Due: 5 p.m. ET 9/30/14.

Docket Numbers: RP14-1264-000.

Applicants: Gulf South Pipeline Company, LP.

Description: Compliance filing per 154.203: Compliance Tariff Filing in Certificate Proceeding—Docket No. CP13-96-000 to be effective 11/1/2014.

Filed Date: 9/19/14.

Accession Number: 20140919-5049.

Comments Due: 5 p.m. ET 10/1/14.

Docket Numbers: RP14-1265-000.

Applicants: Gulf South Pipeline Company, LP.

Description: Compliance filing per 154.203: Neg Rate Agmts Filed in Compliance with Order in CP13-96-000 to be effective 11/1/2014.

Filed Date: 9/19/14.

Accession Number: 20140919-5051.

Comments Due: 5 p.m. ET 10/1/14.

Docket Numbers: RP14-1266-000.

Applicants: Florida Gas Transmission Company, LLC.

Description: § 4(d) rate filing per 154.204: Housekeeping Filing on 9-19-14 to be effective 10/20/2014.

Filed Date: 9/19/14.

Accession Number: 20140919-5076.

Comments Due: 5 p.m. ET 10/1/14.

Docket Numbers: RP14-1267-000.

Applicants: East Tennessee Natural Gas, LLC.

Description: Compliance filing per 154.203: Eastman Neg Rate (k410493)—CP13-534. Compliance Filing to be effective 1/1/2015.

Filed Date: 9/19/14.

Accession Number: 20140919-5099.

Comments Due: 5 p.m. ET 10/1/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP14-1242-001.

Applicants: Tennessee Gas Pipeline Company, L.L.C.

Description: Tariff Amendment per 154.205(b): Clean Up-Amend-Negotiated Rate Agreements to be effective 10/1/2014.

Filed Date: 9/18/14.

Accession Number: 20140918-5124.

Comments Due: 5 p.m. ET 9/30/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2014.
Nathaniel J. Davis, Sr.,
Deputy Secretary.

[FR Doc. 2014-23198 Filed 9-29-14; 8:45 am]

BILLING CODE 6717-01-P